DEPARTMENT OF COMMERCE

National Oceanic and Atmospheric Administration

RIN 0648-XC372

Endangered Species; File No. 17381

AGENCY: National Marine Fisheries Service (NMFS), National Oceanic and Atmospheric Administration (NOAA), Commerce.

ACTION: Notice; receipt of application.

SUMMARY: Notice is hereby given that Kristen Hart, Ph.D., United States Geological Survey, Southeast Ecological Science Center, 3205 College Avenue, Davie, FL 33314, has applied in due form for a permit to take green (Chelonia mydas), loggerhead (Caretta caretta), hawksbill (Eretmochelys imbricata), and Kemp's ridley (Lepidochelys kempii) sea turtles for the purposes of scientific research.

DATES: Written, telefaxed, or emailed comments must be received on or before January 4, 2013.

ADDRESSES: The application and related documents are available for review by selecting Records Open for Public Comment from the Features box on the Applications and Permits for Protected Species (APPS) home page, https://apps.nmfs.noaa.gov, and then selecting File No. 17183 from the list of available applications.

These documents are also available upon written request or by appointment in the following offices:

Permits and Conservation Division, Office of Protected Resources, NMFS, 1315 East-West Highway, Room 13705, Silver Spring, MD 20910; phone (301) 427-8401; fax (301) 713-0376; and

Southeast Region, NMFS, 263 13th Avenue South, Saint Petersburg, FL 33701; phone (727) 824-5312; fax (727) 824-5309.

Written comments on this application should be submitted to the Chief, Permits and Conservation Division

• By email to NMFS.Pr1Comments@noaa.gov (include the File No. in the subject line of the email),

• By facsimile to (301) 713-0376, or

• At the address listed above.

Those individuals requesting a public hearing should submit a written request to the Chief, Permits and Conservation Division at the address listed above. The request should set forth the specific reasons why a hearing on this application would be appropriate.

FOR FURTHER INFORMATION CONTACT: Colette Cairns or Amy Hapeman, (301) 427-8401.

SUPPLEMENTARY INFORMATION: The subject permit is requested under the authority of the Endangered Species Act of 1973, as amended (ESA; 16 U.S.C. 1531 et seq.) and the regulations governing the taking, importing, and exporting of endangered and threatened species (50 CFR 222-226).

The applicant requests a 5-year permit to continue long-term research on the demographics and movements of green, loggerhead, hawksbill, and Kemp's ridley sea turtles in Florida waters. This research would take place in and around the Dry Tortugas National Park, and in the coastal waters off Florida in the Gulf of Mexico. The objectives of the research are to: (1) Obtain information on fine-scale temporal and spatial patterns of sea turtle habitat use and movement patterns inside and outside the National Park; (2) examine diet through stable isotope analysis; and (3) determine genetic distinctiveness and connectivity to other populations. Researchers would capture sea turtles by rodeo capture, cast net, tangle net, dip net or hand capture. Turtles would be weighed, measured, flipper tagged, passive integrated transponder tagged, blood sampled, tissue sampled, scute sampled, epibiota sampled, fecal sampled, undergo gastric lavage, temporarily carapace marked, photographed, and released. A subset of turtles would be fitted with some combination of up to three telemetry tags—e.g., satellite tag, acoustic transmitter, and/or accelerometer,—and tracked; upon recapture, these animals would have the tags removed.

Dated: November 30, 2012.
P. Michael Payne,
Chief, Permits and Conservation Division, Office of Protected Resources, National Marine Fisheries Service.

[FR Doc. 2012-29323 Filed 12-4-12; 8:45 am]

BILLING CODE 3510-22-P